NATIONAL FOUNDATION ON THE ARTS AND THE HUMANITIES

National Endowment for the Arts

Arts Advisory Panel Meetings

AGENCY: National Endowment for the Arts, National Foundation on the Arts and Humanities.

ACTION: Notice of meetings.

SUMMARY: Pursuant to the Federal Advisory Committee Act, as amended, notice is hereby given that 29 meetings of the Arts Advisory Panel to the National Council on the Arts will be held by teleconference.

DATES: All meetings are Eastern time and ending times are approximate:

Dance (review of applications): This meeting will be closed.

Date and time: June 2, 2016; 12:00 p.m. to 2:00 p.m.

Dance (review of applications): This meeting will be closed.

Date and time: June 2, 2016; 3:00 p.m. to 5:00 p.m.

Dance (review of applications): This meeting will be closed.

Date and time: June 3, 2016; 12:00 p.m. to 2:00 p.m.

Artist Communities (review of applications): This meeting will be closed.

Date and time: June 13, 2016; 2:00 p.m. to 4:00 p.m.

Local Arts Agencies (review of applications): This meeting will be closed.

Date and time: June 3, 2016; 3:00 p.m. to 5:00 p.m.

Arts Education (review of applications): This meeting will be closed.

Date and time: June 15, 2016; 1:00 p.m. to 3:00 p.m.

Folk & Traditional Arts (review of applications): This meeting will be closed.

Date and time: June 15, 2016; 1:00 p.m. to 3:00 p.m.

Folk & Traditional Arts (review of applications): This meeting will be closed.

Date and time: June 16, 2016; 1:00 p.m. to 3:00 p.m.

Theater and Musical Theater (review of applications): This meeting will be closed.

Date and time: June 16, 2016; 1:00 p.m. to 3:00 p.m.

Theater and Musical Theater (review of applications): This meeting will be closed.

Date and time: June 16, 2016; 4:00 p.m. to 6:00 p.m.

Music (review of applications): This meeting will be closed.

Date and time: June 20, 2016; 12:00 p.m. to 2:00 p.m.

Music (review of applications): This meeting will be closed.

Date and time: June 20, 2016; 3:00 p.m. to 5:00 p.m.

Design (review of applications): This meeting will be closed.

Date and time: June 21, 2016; 12:00 p.m. to 2:30 p.m.

Design (review of applications): This meeting will be closed.

Date and time: June 21, 2016; 3:00 p.m. to 5:30 p.m.

Music (review of applications): This meeting will be closed.

Date and time: June 22, 2016; 12:00 p.m. to 2:00 p.m.

Music (review of applications): This meeting will be closed.

Date and time: June 22, 2016; 3:00 p.m. to 5:00 p.m.

Media Arts (review of applications): This meeting will be closed.

Date and time: June 27, 2016; 11:30 a.m. to 1:30 p.m.

Arts Education (review of applications): This meeting will be closed.

Date and time: June 28, 2016; 1:30 p.m. to 3:30 p.m.

Opera (review of applications): This meeting will be closed.

Date and time: June 28, 2016; 12:00 p.m. to 2:00 p.m.

Opera (review of applications): This meeting will be closed.

Date and time: June 28, 2016; 3:00 p.m. to 5:00 p.m.

Presenting & Multidisciplinary Works (review of applications): This meeting will be closed.

Date and time: June 28, 2016; 2:00 p.m. to 4:00 p.m.

Visual Arts (review of applications): This meeting will be closed.

Date and time: June 28, 2016; 11:30 a.m. to 1:30 p.m.

Visual Arts (review of applications): This meeting will be closed.

Date and time: June 28, 2016; 2:30 p.m. to 4:30 p.m.

Media Arts (review of applications): This meeting will be closed.

Date and time: June 29, 2016; 11:30 a.m. to 1:30 p.m.

Media Arts (review of applications): This meeting will be closed.

Date and time: June 29, 2016; 2:30 p.m. to 4:30 p.m.

Presenting & Multidisciplinary Works (review of applications): This meeting will be closed.

Date and time: June 29, 2016; 2:00 p.m. to 4:00 p.m.

Presenting & Multidisciplinary Works (review of applications): This meeting will be closed.

Date and time: June 30, 2016; 2:00 p.m. to 4:00 p.m.

Visual Arts (review of applications): This meeting will be closed.

Date and time: June 30, 2016; 11:30 a.m. to 1:30 p.m.

Theater and Musical Theater (review of applications): This meeting will be closed.

Date and time: June 30, 2016; 1:00 p.m. to 3:00 p.m.

ADDRESSES: National Endowment for the Arts, Constitution Center, 400 7th St. SW., Washington, DC 20506.

FOR FURTHER INFORMATION CONTACT: Further information with reference to these meetings can be obtained from Ms. Kathy Plowitz-Worden, Office of Guidelines & Panel Operations, National Endowment for the Arts, Washington, DC 20506; plowitzk@arts.gov, or call 202-682-5691.

SUPPLEMENTARY INFORMATION: The closed portions of meetings are for the purpose of Panel review, discussion, evaluation, and recommendations on financial assistance under the National Foundation on the Arts and the Humanities Act of 1965, as amended, including information given in confidence to the agency. In accordance with the determination of the Chairman of February 15, 2012, these sessions will be closed to the public pursuant to subsection (c)(6) of section 552b of title 5, United States Code.

Dated: May 9, 2016.
Kathy Plowitz-Worden,
Panel Coordinator, National Endowment for the Arts.

[FR Doc. 2016-11180 Filed 5-11-16; 8:45 am]

BILLING CODE 7537-01-P